SECURITIES AND EXCHANGE COMMISSION

Proposed Collection; Comment Request

Upon Written Request, Copies Available From Securities and Exchange Commission, Office of Filings and Information Services, Washington, DC 20549.

Extension:

Appendix F to Rule 15c3-1, SEC File No. 270-440, OMB Control No. 3235-0496

Rule 17 Ad-16, SEC File No. 270-363, OMB Control No. 3235-0413.

Notice is hereby given that pursuant to the Paperwork Reduction Act of 1995 (44 U.S.C. 3501 et seq.) the Securities and Exchange Commission (“Commission”) is soliciting comments on the collection of information summarized below. The Commission plans to submit these existing collections of information to the Office of Management and Budget for extension and approval.

Appendix F to Rule 15c3-1 requires a broker-dealer choosing to register as an OTC derivative dealer to develop and maintain an internal risk management system based on Value-at-Risk (“VAR”) models Appendix F also requires the OTC derivatives to notify Commission staff of the system and of certain other periodic information including when the VA model deviates from the actual performance of the OTC derivatives dealers' portfolio. It is anticipated that approximately six (6) broker-dealers will spend 1,000 hours per year complying with Appendix F. The total burden is estimated to be approximately 6,000 hours. Each broker-dealer will spend approximately $76,500 per response for a total annual expense for all broker-dealers of $459,000.

Rule 176AD-16 requires a registered transfer agent to provide written notice to a qualified registered securities depository when assuming or terminating transfer agent services on behalf of an issuer or when changing its name or address. These recordkeeping requirements address the problem of certificate transfer delays caused by transfer requests that are directed to the wrong transfer agent or the wrong address.

Given that there are approximately 450 respondents who submit Rule 17Ad-16 notices, the staff estimates that the average number of hours necessary for each transfer agent to comply with Rule 17Ad-16 is approximately 15 minutes per notice or 3.5 hours per year, totaling 1.575 hours industry-wide. The average cost per hour is approximately $30 per hours, with the industry-wide cost estimated at approximately $47,250. However, the information required by Rule 17Ad-16 generally already is maintained by registered transfer agents. The amount of time devoted to compliance with Rule 17AD-16 varies according to differences in business activity.

Written comments are invited on: (a) Whether the proposed collection of information is necessary for the proper performance of the functions of the agency, including whether the information shall have practical utility; (6) the accuracy of the agency's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Direct your written comments to Michael E. Bartell, Associate Executive Director, Office of Information Technology, Securities and Exchange Commission, 450 5th Street, NW., Washington, DC 20549.

Dated: November 17, 2000.
Margaret H. McFarland,
Deputy Secretary.

[FR Doc. 00-31444 Filed 12-8-00; 8:45 am]

BILLING CODE 8010-01-M